DEPARTMENT OF HOUSING AND URBAN DEVELOPMENT

[Docket No. FR-6083-N-04]

Notice of a Federal Advisory Committee Meeting Manufactured Housing Consensus Committee

AGENCY: Office of the Assistant Secretary for Housing—Federal Housing Commissioner, Department of Housing and Urban Development (HUD).

ACTION: Notice of a Federal Advisory Committee meeting: Manufactured Housing Consensus Committee (MHCC).

SUMMARY: This notice sets forth the schedule and proposed agenda for a meeting of the MHCC. The meeting is open to the public and the site is accessible to individuals with disabilities. The agenda provides an opportunity for citizens to comment on the business before the MHCC.

DATES: The meeting will be held on October 29 through October 31, 2019, 9:00 a.m. to 5:00 p.m. Eastern Daylight Time (EDT) daily.

ADDRESSES: The meeting will be held at the Holiday Inn Washington—Capitol, 550 C Street SW, Washington, DC 20024.

FOR FURTHER INFORMATION CONTACT: Teresa B. Payne, Administrator, Office of Manufactured Housing Programs, Department of Housing and Urban Development, 451 7th Street SW, Room 9166, Washington, DC 20410, telephone (202) 708-6423 (this is not a toll-free number). Persons who have difficulty hearing or speaking may access this number via TTY by calling the toll-free Federal Relay at (800) 877-8339 (this is a toll-free number).

SUPPLEMENTARY INFORMATION:

Background

Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000, (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment

Citizens wishing to make comments on the business of the MHCC must register by or before Monday, October 21, 2019, by contacting Home Innovation Research Labs; Attention: Kevin Kauffman, 400 Prince Georges Blvd., Upper Marlboro, MD 20774, or email to mhcc@homeinnovation.com or call 1-888-602-4663. With advanced registration, members of the public will have an opportunity to provide oral or written comments relative to agenda topics for the MHCC's consideration. For the MHCC meeting, the written comments must be provided no later than October 21, 2019 to mhcc@homeinnovation.com. Please note, written statements submitted will not be read during the meeting but will be provided to the MHCC members prior to the meeting. The MHCC will also provide an opportunity for oral public comments on specific matters before the MHCC. The total amount of time for oral comments will be 15 minutes with each commenter limited to two minutes to ensure pertinent MHCC business is completed. The MHCC will not respond to individual written or oral statements; however, it will take all public comments into account in its deliberations. The MHCC strives to accommodate citizen comments to the extent possible within the time constraints of the meeting agenda.

Tentative Agenda

Tuesday, October 29, 2019

I. Call to Order—Chair & Designated Federal Officer (DFO)

II. Opening Remarks—Chair & HUD

A. Roll Call—Administering Organization (AO)

B. Introductions

i. HUD Staff

ii. Guests

C. Administrative Announcements—DFO & AO

III. Approve Draft Minutes from April 30-May 2, 2019, MHCC meeting

IV. Public Comment Period—15 minutes

V. Update from General Subcommittee to the MHCC

VI. Break

VII. Update from Regulatory Enforcement Subcommittee to the MHCC

VIII. Lunch

IX. Continue Review of Current Log & Action Items or Subcommittee Meetings

X. Break

XI. Regulatory Enforcement Subcommittee Meeting

Log Item Category:

• Procedural and Enforcement Regulations: LOG 195

Deregulation Comment pending regulatory language:

• DRC 4

XII. Public Comment Period—15 minutes

XIII. Daily Wrap Up—DFO & AO

XIV. Adjourn

Wednesday, October 30, 2019

I. Reconvene Meeting—Chair & Designated Federal Officer (DFO)

II. Opening Remarks—Chair

A. Roll Call—Administering Organization (AO)

III. Public Comment Period—15 minutes

IV. Update from Regulatory Enforcement or Review Current Log & Action Items

V. Break

VI. Continue Review of Current Log & Action Items or Subcommittee Meetings

VII. Lunch

VIII. Structure & Design Subcommittee Meeting

Deregulation Comment Category:

• Foundation Requirements: DRC 155, DRC 159, DRC 160, DRC 161, DRC 162, DRC 163, DRC 164, DRC 165, DRC 166, DRC 167, DRC 168, DRC 180, DRC 181, DRC 182, DRC 183

Log Items Categories:

• 3280 Subpart A—General: LOG 193

• 3280 Subpart B—Planning Considerations: LOG 173

• 3280 Subpart C—Fire Safety: LOG 174, LOG 196

• 3280 Subpart E—Testing: LOG 197, LOG 202, LOG 203, LOG 204, LOG 206

IX. Break

X. General Subcommittee Meeting

Deregulation Comments pending regulatory language:

• DRC 64, DRC 281, DRC 284

XI. Technical Systems Subcommittee Meeting

Log Items Category:

• 3280 Subpart F—Thermal Protection: LOG 205

XII. Public Comment Period—15 minutes

XIII. Daily Wrap Up—DFO

XIV. Adjourn

Thursday, October 31, 2019

I. Reconvene Meeting—Chair & Designated Federal Officer (DFO)

II. Opening Remarks—Chair

A. Roll Call—Administering Organization (AO)

III. Update from Subcommittees to the MHCC

IV. Break

V. Continue Review of Current Log & Action Items or Subcommittee Meetings

VI. Public Comment Period—15 minutes

VII. Daily Wrap Up—DFO & AO

VIII. Adjourn

Dated: September 20, 2019.
John L. Garvin,
General Deputy Assistant Secretary for Housing.

[FR Doc. 2019-20906 Filed 9-25-19; 8:45 am]

BILLING CODE 4210-67-P